DEPARTMENT OF ENERGY

Federal Energy Regulatory Commission

[Project No. 5-063]

PPL Montana, LLC and Confederated Salish and Kootenai Tribes of the Flathead Nation; Notice of Effective Date of Withdrawal of Petition for Declaratory Order

June 2, 2003.

On June 19, 2001, PPL Montana, LLC (PPL Montana) filed a petition for declaratory order to clarify its obligations as co-licensee of the Kerr Project No. 5, located on the Flathead River in Lake and Flathead Counties, Montana, and partially on lands within the Flathead Indian Reservation. On April 17, 2003, PPL Montana filed a notice of withdrawal of its petition.

No motion to the notice of withdrawal was filed, and the Commission took no action to disallow the withdrawal. Accordingly, pursuant to rule 216 of the Commission's rules of practice and procedure,¹ the withdrawal became effective on May 2, 2003.

¹ 18 CFR 385.216(b) (2003).

Magalie R. Salas,
Secretary.

[FR Doc. 03-14500 Filed 6-9-03; 8:45 am]

BILLING CODE 6717-01-P